NUCLEAR REGULATORY COMMISSION

[Docket 70-7001]

Notice of Receipt of Amendment Application to Certificate of Compliance GDP-1 for the U.S. Enrichment Corporation, Paducah Gaseous Diffusion Plant, Paducah, KY; Notice of Comment Period

Notice is hereby given that the U.S. Nuclear Regulatory Commission (NRC or the Commission) has received an amendment application from the United States Enrichment Corporation that is considered to be a major change in the facility and/or the operating procedures which could substantially increase the risk. Any interested party may submit written comments on the application for amendment for consideration by the staff. To be certain of consideration, comments must be received by December 22, 2000. Comments received after the due date will be considered if it is practical to do so. The Commission is able to assure consideration only for comments received on or before this date.

Written comments on the amendment application should be mailed to the Chief, Rules Review and Directives Branch, Office of Administration, U.S. Nuclear Regulatory Commission, Washington, DC 20555, or may be hand delivered to 11545 Rockville Pike, Rockville, MD, 20854, between 7:45 a.m. and 4:15 p.m. on Federal workdays. Comments should be legible and reproducible, and include the name, affiliation (if any), and address of the submitter at the Commission's Public Document Room and the Local Public Document Room. In accordance with 10 CFR 76.62 and 76.64, a member of the public must submit written comments to petition the Commission requesting review of the Director's Decision on the amendment request.

For further details with respect to the action, see the application for amendment. The application is available for public inspection at the Commission's Public Document Room, NRC's Headquarters Building, One White Flint North, 11555 Rockville Pike, Rockville, MD, 20852, and electronically from the Publicly Available Records (PARS) component of NRC's document management system (ADAMS), which is accessible from the NRC Web Site at: http://www.nrc.gov/NRC/ADAMS/index.html.

Date of amendment request: October 20, 2000.

Brief description of amendment: The U.S. Enrichment Corporation is requesting that the assay limit for the Paducah facility be increased from the current 2.75 wt% \235\U up to 5.5 wt% \235\U. The proposed amendment, if approved, would allow the Paducah facility to withdraw from the cascade and ship 5.0 wt% enriched uranium hexafluoride (UF6).

Certificate of Compliance No. GDP-1: USEC, in its proposed amendment, is providing revision number 52 to the certificate to allow the higher enrichment. This amendment also proposes changes to the Technical Safety Requirements Basis Statements.

Dated at Rockville, Maryland, this 15th day of November 2000.
For the Nuclear Regulatory Commission.
Eric J. Leeds,
Chief, Special Projects Branch, Division of Fuel Cycle Safety and Safeguards, Office of Nuclear Material Safety and Safeguards.

[FR Doc. 00-29835 Filed 11-21-00; 8:45 am]

BILLING CODE 7590-01-P